DEPARTMENT OF TRANSPORTATION

Federal Aviation Administration

14 CFR Part 39

[Docket No. FAA-2018-0022; Product Identifier 2015-NM-044-AD; Amendment 39-19162; AD 2018-02-09]

RIN 2120-AA64

Airworthiness Directives; Fokker Services B.V. Airplanes

AGENCY: Federal Aviation Administration (FAA), DOT.

ACTION: Final rule; request for comments.

SUMMARY: We are superseding Airworthiness Directive (AD) 2008-06-20 R1, which applied to all Fokker Services B.V. Model F28 Mark 0070 and 0100 airplanes, and certain Model F28 Mark 1000, 2000, 3000, and 4000 airplanes. AD 2008-06-20 R1 required revising the Airworthiness Limitations Section (ALS) of the Instructions for Continued Airworthiness for certain airplanes, and the maintenance or inspection program, as applicable, for certain other airplanes, to incorporate new limitations for fuel tank systems. AD 2008-06-20 R1 also clarified the intended effect on spare and on-airplane fuel tank system components, regarding the use of maintenance manuals and instructions for continued airworthiness. This new AD was prompted by revised fuel airworthiness limitation items (ALI) tasks, and critical design configuration control limitations (CDCCL) items, and associated thresholds, intervals, and instructions. This AD requires contacting the FAA to obtain instructions for addressing the unsafe condition on these products, and doing the actions specified in those instructions. We are issuing this AD to address the unsafe condition on these products.

DATES: This AD becomes effective February 6, 2018.

We must receive comments on this AD by March 8, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

Examining the AD Docket

You may examine the AD docket on the internet at http://www.regulations.gov by searching for and locating Docket No. FAA-2018-0022; or in person at the Docket Operations office between 9 a.m. and 5 p.m., Monday through Friday, except Federal holidays. The AD docket contains this AD, the regulatory evaluation, any comments received, and other information. The street address for the Docket Operations office (telephone: 800-647-5527) is in the ADDRESSES section. Comments will be available in the AD docket shortly after receipt.

FOR FURTHER INFORMATION CONTACT: Tom Rodriquez, Aerospace Engineer, International Section, Transport Standards Branch, FAA, 1601 Lind Avenue SW, Renton, WA 98057-3356; telephone: 425-227-1137; fax: 425-227-1149.

SUPPLEMENTARY INFORMATION:

Discussion

We issued AD 2008-06-20 R1, Amendment 39-16089 (74 FR 61018, November 23, 2009) (“AD 2008-06-20 R1”), which applied to all Fokker Services B.V. Model F28 Mark 0070 and 0100 airplanes, and certain Model F28 Mark 1000, 2000, 3000, and 4000 airplanes. AD 2008-06-20 R1 was prompted by revised fuel ALI tasks, and CDCCL items, and associated thresholds, intervals and instructions. AD 2008-06-20 R1 required revising the ALS of the Instructions for Continued Airworthiness for certain airplanes, and the FAA-approved maintenance or inspection program, as applicable, for certain other airplanes, to incorporate new limitations for fuel tank systems. AD 2008-06-20 R1 also clarified the AD's intended effect on spare and on-airplane fuel tank system components, regarding the use of maintenance manuals and instructions for continued airworthiness. We issued AD 2008-06-20 R1 to reduce the potential of ignition sources inside fuel tanks, which, in combination with flammable fuel vapors, could result in fuel tank explosions and consequent loss of the airplane.

Since we issued AD 2008-06-20 R1, we have determined that revised Fuel ALI tasks, and CDCCL items, and associated thresholds, intervals and instructions need to be implemented.

The European Aviation Safety Agency (EASA), which is the Technical Agent for the Member States of the European Union, has issued EASA AD 2015-0030, dated February 24, 2015 (referred to after this as the Mandatory Continuing Airworthiness Information, or “the MCAI”), to correct an unsafe condition for all Fokker Services B.V. Model F28 Mark 1000, 2000, 3000, and 4000 airplanes. The MCAI states:

[Subsequent to accidents involving Fuel Tank System explosions in flight and on ground] * * *, the FAA published Special Federal Aviation Regulation (SFAR) 88, and the Joint Aviation Authorities (JAA) published Interim Policy INT/POL/25/12. The review conducted by Fokker Services on the Fokker F28 design in response to these regulations identified a number of Fuel Airworthiness Limitation items (ALI) and Critical Design Configuration Control Limitations (CDCCL) items to prevent the development of unsafe conditions within the fuel system.

To introduce these Fuel ALI and CDCCL items, Fokker Services published Service Bulletin (SB) F28/28-050 and EASA issued AD 2006-0208, requiring the implementation of these Fuel ALI and CDCCL items. That [EASA] AD was later revised to make reference to SBF28-28-050R1 and to specify that the use of later revisions was acceptable.

In 2014, Fokker Services issued Revision 2 of SBF28-28-050 to update the ALI and CDCCL items and to consolidate Fuel ALI and CDCCL items contained in a number of other SBs. Consequently, EASA issued AD 2014-0110, superseding [EASA] AD 2006-0208R1 [which corresponds to FAA AD 2008-06-20 R1] and requiring the implementation of the updated Fuel ALI and CDCCL items.

Since that [EASA] AD was issued, Fokker Services issued Revision 3 of SBF28-28-050, primarily to introduce 5 additional CDCCL items.

You may examine the MCAI on the internet at http://www.regulations.gov by searching for and locating Docket No. FAA-2018-0022.

FAA's Determination and Requirements of This AD

This product has been approved by the aviation authority of another country, and is approved for operation in the United States. Pursuant to our bilateral agreement with the State of Design Authority, we have been notified of the unsafe condition described in the MCAI. We are issuing this AD because we evaluated all pertinent information and determined the unsafe condition exists and is likely to exist or develop on other products of the same type design.

FAA's Determination of the Effective Date

Since there are currently no domestic operators of this product, we find good cause that notice and opportunity for prior public comment are unnecessary. In addition, for the reason(s) stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2018-0022; Product Identifier 2015-NM-044-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

Currently, there are no affected U.S.-registered airplanes. This AD requires contacting the FAA to obtain instructions for addressing the unsafe condition, and doing the actions specified in those instructions. Based on the actions specified in the MCAI AD, we are providing the following cost estimates for an affected airplane that is placed on the U.S. Register in the future:

Estimated Costs
Action | Labor cost | Parts cost | Cost per product
Revise the maintenance or inspection program | 1 work-hour × $85 per hour = $85 | $0 | $85

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-06-20 R1, Amendment 39-16089 (74 FR 61018, November 23, 2009), and adding the following new AD:

2018-02-09 Fokker Services B.V.: Amendment 39-19162; Docket No. FAA-2018-0022; Product Identifier 2015-NM-044-AD.

(a) Effective Date

This AD becomes effective February 6, 2018.

(b) Affected ADs

This AD replaces AD 2008-06-20 R1, Amendment 39-16089 (74 FR 61018, November 23, 2009) (“AD 2008-06-20 R1”).

(c) Applicability

This AD applies to Fokker Services B.V. Model F28 Mark 1000, 2000, 3000, and 4000 airplanes, certificated in any category, all manufacturer serial numbers.

(d) Subject

Air Transport Association (ATA) of America Code 28, Fuel.

(e) Reason

This AD was prompted by the issuance of revised fuel airworthiness limitation items (ALI) tasks, critical design configuration control limitations (CDCCL) items and associated thresholds, intervals and instructions. We are issuing this AD to reduce the potential of ignition sources inside fuel tanks, which, in combination with flammable fuel vapors, could result in fuel tank explosions and consequent loss of the airplane.

(f) Compliance

Comply with this AD within the compliance times specified, unless already done.

(g) Required Action(s)

Within 30 days after the effective date of this AD, request instructions from the Manager, International Section, Transport Standards Branch, FAA, to address the unsafe condition specified in paragraph (e) of this AD; and accomplish the action(s) at the times specified in, and in accordance with, those instructions. Guidance can be found in Mandatory Continuing Airworthiness Information (MCAI) European Aviation Safety Agency (EASA) AD 2015-0030, dated February 24, 2015.

(h) Alternative Methods of Compliance (AMOCs)

The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (i)(2) of this AD. Information may be emailed to: 9-ANM-116-AMOC-REQUESTS@faa.gov. Before using any approved AMOC, notify your appropriate principal inspector, or lacking a principal inspector, the manager of the local flight standards district office/certificate holding district office.

(i) Related Information

(1) Refer to MCAI EASA 2015-0030, dated February 24, 2015, for related information. You may examine the MCAI on the internet at http://www.regulations.gov by searching for and locating Docket No. FAA-2018-0022.

(2) For more information about this AD, contact Tom Rodriquez, Aerospace Engineer, International Section, Transport Standards Branch, FAA, 1601 Lind Avenue SW, Renton, WA 98057-3356; telephone: 425-227-1137; fax: 425-227-1149.

(j) Material Incorporated by Reference

None.

Issued in Renton, Washington, on January 9, 2018.
John P. Piccola, Jr.,
Acting Director, System Oversight Division, Aircraft Certification Service.

[FR Doc. 2018-00950 Filed 1-19-18; 8:45 am]

BILLING CODE 4910-13-P